DEPARTMENT OF ENERGY

Federal Energy Regulatory Commission

Notice of Application To Amend License, and Soliciting Comments, Motions To Intervene, and Protests

October 15, 2001.

Take notice that the following hydroelectric application has been filed with the Commission and is available for public inspection:

a. Application Type: Amendment of License for the Transmission Line Route.

b. Project No: 6641-046.

c. Date Filed: July 13, 2001.

d. Applicant: City of Marion, Kentucky, and Smithland Hydroelectric Partners.

e. Name of Project: Smithland Lock and Dam Project.

f. Location: The Project is located on the Ohio River in Livingston County, Kentucky. The project will affect federal lands at the U.S. Army Corps of Engineers' Smithland Lock and Dam.

g. Filed Pursuant to: Federal Power Act, 16 U.S.C. 791(a)-825(r).

h. Applicant Contact: Mr. James Price, 120 Calumet Court, Aiken, SC 29803, (803) 642-2749.

i. FERC Contact: Any questions on this notice should be addressed to Mr. Mohamad Fayyad at (202) 219-2665 or mohamad.fayyad@ferc.fed.us.

j. Deadline for filing comments and/or motions: (November 19, 2001).

Please include the project number (P-6641-046) on any comments or motions filed.

All documents (original and eight copies) should be filed with: David P. Boergers, Secretary, Federal Energy Regulatory Commission, 888 First Street, NE., Washington, DC 20426.

k. Description of Filing: The City of Marion, Kentucky, and Smithland Hydroelectric Partners propose a revised route for the project's 161-kV transmission line. The currently approved (but not constructed yet) transmission line route extends about 8.7 miles from the project's dam to an existing transmission line of Louisville Gas and Electric Energy Company (LGEE). Now the licensee proposes a route that proceeds from the project's dam for 11 miles to LGEE's Livingston County substation, just west of the Cumberland River. This proposed transmission line route would require the clearing of about 35 acres of woods.

l. Locations of the Application: A copy of the application is available for inspection and reproduction at the Commission's Public Reference Room, located at 888 First Street, NE, Room 2A, Washington, DC 20426, or by calling (202) 208-1371. This filing may also be viewed on the web at http://www.ferc.gov.html using the “RIMS” link, select “Docket #” and follow the instructions (call 202-208-2222 for assistance). A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's web site at http://www.ferc.gov under the “e-Filing” link.

David P. Boergers,
Secretary.

[FR Doc. 01-26377 Filed 10-18-01; 8:45 am]

BILLING CODE 6717-01-P